DEPARTMENT OF ENERGY

Federal Energy Regulatory Commission

[Docket No. IC11-725B-001]

Commission Information Collection Activities (FERC-725B); Comment Request; Submitted for OMB Review; Extension

On March 31, 2011, the Commission issued a Notice in Docket No. IC11-725B-001 (FR Doc. 2011-8248, published on April 7, 2011 at 76 FR 19333) which established a public comment period that was set to end on May 9, 2011. This notice extends the comment period deadline to and including June 23, 2011.

Kimberly D. Bose,
Secretary.

[FR Doc. 2011-11236 Filed 5-12-11; 8:45 am]

BILLING CODE 6717-01-P